DEPARTMENT OF THE INTERIOR

Bureau of Land Management

[WO-230-1030-PB-01-24-1A]

Extension of Approved Information Collection, OMB Number 1004-0058

AGENCY: Bureau of Land Management, Interior.

ACTION: Notice and request for comments.

SUMMARY: In accordance with the Paperwork Reduction Act of 1995, the Bureau of Land Management (BLM) announces its intention to request renewal of an existing approval to collect certain information from Federal timber purchasers to allow BLM to determine compliance with timber export restrictions. Federal timber purchasers must keep records of Federal timber volume purchased and private timber volume exported for a period of three years from the date the activity occurred. BLM uses this information to administer export restrictions on BLM timber sales and to determine whether substitution of Federal timber for exported private timber has occurred.

DATES: Comments on the proposed information collection must be received by October 23, 2000 to be assured of consideration.

ADDRESSES: Comments may be mailed to: Regulatory Affairs Group (630), Bureau of Land Management, 1849 C Street NW., Room 401LS, Washington, DC 20240.

Comments may be sent via Internet to: WoComment@blm.gov. Please include “Attn: 1004-0058” and your name and return address in your Internet message.

You may hand-deliver comments to the Bureau of Land Management, Administrative Record, Room 401, 1620 L Street, NW., Washington, DC.

BLM will make comments available for public review at the L Street address during regular business hours (7:45 a.m. to 4:15 p.m.), Monday through Friday.

FOR FURTHER INFORMATION CONTACT: Michael J. Haske, WO-230, (202) 452-7758, or by e-mail at Michael_J_Haske@blm.gov.

SUPPLEMENTARY INFORMATION: In accordance with 5 CFR 1320.12(a), BLM is required to provide 60-day notice in the Federal Register concerning a collection of information contained in BLM Form 5460-17, Substitution Determination (43 CFR 5400, Sales of Forest Products), to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the OMB under 44 U.S.C. 3501 et seq.

BLM manages and sells timber located on the revested Oregon and California Railroad and the reconveyed Coos Bay Wagon Road Grant Lands pursuant to authority of the Act of August 28, 1937 (50 Stat. 875, 43 U.S.C. 1181e). BLM manages and sells timber located on other lands under the jurisdiction of the BLM pursuant to the Act of July 31, 1947, as amended (61 Stat. 681, 30 U.S.C. 601 et seq.). The Department of the Interior and Related Agencies Appropriation Acts of 1975 and 1976 contained a requirement for the inclusion of provisions in timber sale contracts that will ensure that un-processed timber sold from public lands under the jurisdiction of the BLM will not be exported or used by the purchasers as a substitute for timber they export or sell for export. The implementing regulations, found at 43 CFR 5400, Sales of Forest Products, General, were issued on June 13, 1970 (35 FR 9783). The regulations were amended on March 26, 1976 (41 FR 12658) to reflect the prohibition against export and substitution, and last amended on March 11, 1991 (56 FR 10175). The Forest Resources Conservation and Shortage Relief Act (FRCSRA) of 1990 (Public Law 101-382, 16 U.S.C. 620 et seq.) directs the BLM to publish new regulations and revise existing regulations to continue the prohibition on exporting unprocessed timber harvested from Federal lands west of the 100th Meridian in the contiguous 48 states. The BLM has not yet promulgated such regulations; the FRCSRA directs that regulations in effect before such date of promulgation shall continue to govern the export prohibition, making continued use of this form necessary.

Timber purchasers or their affiliates must provide the information listed at 43 CFR 5424.1(a). BLM collects the purchaser's name, timber contract number, processing facility location, total volume of Federal timber purchased on an annual basis, total volume of private timber exported on an annual basis, and method of measuring the volume using BLM form 5460-17, Substitution Determination. The regulations at 43 CFR 5424.1(b) require that the purchasers or affiliates retain a record of Federal timber acquisitions and private timber exports for three years from the date the activity occurred. BLM uses this information to determine if there was a substitution of Federal timber for exported private timber in violation of 43 CFR 5400.0-3(c). If BLM did not collect this information, it could not protect against export and substitution.

Based on BLM's experience administering timber contracts, the public reporting burden for the information collected is estimated to average one hour per response. The respondents are Federal timber purchasers who have exported private timber within one year preceding the purchase date of Federal timber and/or affiliates of a timber purchaser who exported private timber within one year before the acquisition of Federal timber from the purchaser. The frequency of response for substitution determination is annually. The number of responses per year is estimated to be about 100. The estimated total annual burden on new respondents is about 100 hours.

Any interested member of the public may request and obtain, without charge, a copy of Form 5460-17 by contacting the person identified under FOR FURTHER INFORMATION CONTACT.

BLM will summarize all responses to this notice and include them in the request for Office of Management and Budget approval. All comments will also become a matter of public record.

Dated: August 16, 2000.
Shirlean Beshir,
BLM Information Clearance Officer.

[FR Doc. 00-21319 Filed 8-21-00; 8:45 am]

BILLING CODE 4310-84-M